DEPARTMENT OF DEFENSE

Army Corps of Engineers

Draft Environmental Impact Statement for the Clearwater Program

AGENCY: U.S. Army Corps of Engineers, Department of the Army, DOD.

ACTION: Notice of Availability.

SUMMARY: The U.S. Army Corps of Engineers (Corps) in conjunction with the Sanitation Districts of Los Angeles County (Sanitation Districts) has completed a Draft Environmental Impact Statement/Environmental Impact Report (EIS/EIR) for the Clearwater Program. The Clearwater Program is a comprehensive planning effort undertaken by the Sanitation Districts. Its purpose is to develop a long-range Master Facilities Plan for the Joint Outfall System, a regional wastewater management system serving approximately 4.8 million people in 73 cities and unincorporated areas in Los Angeles County. A major component of the Clearwater Program is the evaluation of alternatives for new ocean outfalls and rehabilitation of the existing ocean outfalls. Both activities would entail discharge of dredged and fill material in waters of the United States, work in navigable waters of the United States, and the transport of dredged material for ocean disposal. These activities would require authorization from the Corps pursuant to Section 404 of the Clean Water Act, Section 10 of the Rivers and Harbors Act, and Section 103 of the Marine Protection, Research, and Sanctuaries Act, respectively.

For Additional Information Contact: Questions or comments concerning the Draft EIS/EIR should be directed to Dr. Aaron O. Allen, U.S. Army Corps of Engineers, Los Angeles District, Regulatory Division, Ventura Field Office, 2151 Alessandro Drive, Suite 110, Ventura, CA 93001, (805) 585-2148.

SUPPLEMENTARY INFORMATION: The Draft EIS/EIR is available for a 57-day review period from February 13, 2012 through April 10, 2012. The document is accessible via the World-Wide Web at www.ClearwaterProgram.org. Alternatively, printed copies are available at the following locations: Sanitation Districts of Los Angeles County, 1955 Workman Mill Road, Whittier, California; Carson Regional Library, 151 East Carson Street, Carson, California; Los Angeles Public Library, San Pedro Branch, 921 South Gaffey Street, San Pedro, California; Los Angeles Public Library, Wilmington Branch, 1300 North Avalon, Wilmington, California.

Public Meeting: The Sanitation Districts and the Corps will jointly hold a public hearing to receive public comments regarding the Draft EIS/EIR on March 8, 2012, 6:30 p.m., at the Crowne Plaza Hotel Los Angeles Harbor Hotel, 601 South Palos Verdes Street, San Pedro, California. Written comments will be accepted until the close of public review on April 10, 2012.

Dated: January 24, 2012.
David J. Castanon
Chief, Regulatory Division, Corps of Engineers.

[FR Doc. 2012-3300 Filed 2-10-12; 8:45 am]

BILLING CODE 3710-KF-P